DEPARTMENT OF ENERGY

Federal Energy Regulatory Commission

[Docket No. EL14-49-000]

Southwest Power Pool, Inc.; Notice of Petition for Declaratory Order

Take notice that on May 9, 2014, Southwest Power Pool, Inc. (SPP), pursuant to Rule 207 of the Federal Energy Regulatory Commission's (Commission) Rules of Practice and Procedure, 18 CFR 385.207, filed a petition for declaratory order requesting that the Commission confirm that: (1) Section 7.4 of the SPP Open Access Transmission Tariff does not limit SPP's right to seek contract damages in an appropriate court for the nonpayment default for the entire term of the service contracted under the PTP Service Agreement with AES Shady Point, LLC (AES PTP Agreement); (2) nothing in the Commission's regulations requiring that transmission providers submit notices of termination before terminating service limits SPP's ability to seek damages for breach of contract in an appropriate court; and (3) the Commission's order ¹ accepting cancellation of the AES PTP Agreement does not limit SPP's right to seek damages in an appropriate court for AES's nonperformance of the AES PTP Agreement.

¹ Southwest Power Pool, Inc., Docket No. ER13-989-000 (unpublished letter order issued on April 23, 2013).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 9, 2014.

Dated: May 14, 2014.
Kimberly D. Bose,
Secretary.

[FR Doc. 2014-11715 Filed 5-20-14; 8:45 am]

BILLING CODE 6717-01-P